DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 45134-45142, dated August 2, 2010) is amended to reflect the establishment of the Office for State, Tribal, Local, and Territorial Support, Centers for Disease Control and Prevention.

Section C-B, Organization and Functions, is hereby amended as follows:

Delete in its entirety the title of the Office of State and Local Support (CO) and insert the following:

Office for State, Tribal, Local and Territorial Support (CQ). The mission of the Office for State, Tribal, Local, and Territorial Support (OSTLTS) is to improve the capacity and performance of the public health system. To carry out its mission, OSTLTS: (1) Provides CDC-wide guidance and strategic direction to activities related to State, tribal, local, and territorial (STLT) public health agencies; (2) supports the improvement of performance and capacity at the state, tribal, local and territorial levels through the identification, validation, dissemination, acceleration and adoption of policies, standards, leading practices, tools and other resources; (3) provides guidance and strategic direction for the recruitment, development, and management of field staff provided to local public health agencies by CDC direct assistance finding; and (4) enhances shared leadership of public health policy and practice with local public health agencies through increased collaboration and communication.

Office of the Director (CQA). (1) Manages, directs, and coordinates the strategy, operations, and activities of OSTLTS; (2) coordinates cross-cutting CDC activities related to STLT health; (3) provides guidance, strategic direction, and oversight for the investment of OSTLTS resources and assets; (4) oversees and maintains existing government relations, partnerships, and alliances with national public health organizations that represent the public health community, especially state and local public health organizations and their regional and national affiliate organizations, including but not limited to emergency planning, preparedness, and response partners; (5) serves as one of the principal CDC liaisons to other federal agencies (such as the Department of Health and Human Services (HHS), Office of the Assistant Secretary for Preparedness and Response, the Agency for Healthcare Research and Quality, and the Centers for Medicare and Medicaid Services, the Department of Homeland Security, etc), and organizations concerning state, territorial, and local public health agencies and tribal governments; (6) communicates OSTLTS public health activities and issues to internal and external stakeholders; (7) tracks and analyzes proposed legislation, policy, and new laws for their impact on STLT public health programs and activities; (8) develops, supports, and assesses cross-agency research and science relevant to OSTLTS mission-critical activities and program direction; (9) provides guidance on policy, performance, legislative issues, and long term strategies for program development and implementation; (10) identifies, tracks, and analyzes policies and legislation that affect OSTLTS' mission and programs, and keeps OSTLTS management and staff informed; (11) responds to or coordinates response to executive, congressional, departmental, CDC/CIO and other external requests for information; (12) responds or coordinates the response to issues management tasks; and (13) represents OSTLTS in cross-cutting strategic planning, performance management, and policy activities, such as Healthy People and health reform activities, and is OSTLTS' liaison to CDCs budget formulation and policy units.

Public Health Law Office (CQA2). (1) Provides support and consultation for, and access to, public health law expertise at state, local, territorial, and tribal public health levels; (2) reviews, studies, and disseminates information about existing state and local laws that may have application to public health; (3) engages national, state and local public health partners and policy makers, state, local, and U.S. court systems and law enforcement in identifying priorities and in developing and applying legal tools; (4) develops practical, law-centered tools for practitioners and policy makers at the STLT levels; and (5) provides consultation and technical assistance to CDC programs and partners.

Communications Office (CQA3). (1) Serves as a communications network with STLT partners; (2) establishes and interprets policies and determines priorities for communicating the value and benefits of CDC programs and STLT activities; (3) establishes, administers, and coordinates OSTLTS media relations; (4) provides leadership and guidance on developing and implementing external public affairs strategies to communicate with STLT and partners; (5) provides leadership and guidance on developing and implementing internal public affairs strategies to communicate to CDC's workforce about STLT health agencies; (6) provides guidance on leadership communication effectiveness; (7) provides leadership and guidance in using efficient and transparent processes to communicate the decision-making activities of leadership; (8) manages STLT intranet and internet websites; (9) provides written materials that reflect the scientific integrity of all CDC research, programs, and activities and is appropriate for use by CDC and OSTLTS leadership; (10) facilitates communication from CDC to diverse partners and stakeholders in collaboration with OSTLTS divisions and branches; (11) works with the Partnership Support Branch to establish a point of entry for all STLT partners to CDC that complements existing points of connection at CDC; (12) ensures OSTLTS communication activities follow policy directions established by DHHS; (13) participates in issues management and clearance activities for OSTLTS; and (14) provides guidance and leadership on Freedom of Information Act activities.

Division of Public Health Performance Improvement (COB). Provides guidance and strategic direction on a system of performance and accountability to improve STLT public health performance and health outcomes that: (1) Leads the establishment and support of standards, accreditation and improvement processes for public health agencies and public health systems; (2) collaborates with CDC programs and SILT public health agencies to identify and develop standards, policies, and initiatives; (3) reviews measures of agency performance and outcomes related to SILT public health to assure and advance CDC's effectiveness as a public health agency; (4) assesses and reports on the impact of federal investments in core infrastructure to meet the organizational capacities needed to deliver public health services; and (5) develops strategies that will accelerate improved public health outcomes through efficient and effective change in the STLT public health system.

Agency and Systems Improvement Branch (CQBB). (1) Works collaboratively to identify standards, policies, leading practices and models across STLT agencies; (2) represents OSTLTS across internal/external committees; (3) supports the development, implementation, and continued operation of a national voluntary accreditation program for STLT health agencies; (4) supports quality improvement processes and practices that contribute to agency or system core infrastructure improvements; (5) supports the development and use of public health system performance assessments and health improvement planning (e.g., National Public Health Performance Standards Program-Mobilizing for Action through Planning and Partnerships, and State Health Improvement Planning); and (6) works across CDC programs to identify infrastructure standards, policies, practices, and models for replication within the agency.

Research and Outcomes Branch (CQBC). (1) Engages in research through data collection and management, and identifies gaps in the infrastructure of the overall public health system; (2) provides resource assessment and program evaluation support in concert with program offices, fiscal policies and practices related to financial assistance and direct assistance at CDC and local public health agencies; (3) provides monitoring of relevant state-local health outcomes and other indicators as appropriate to serve as a “health improvement index” (commonly referred to as “scorecards”) to stimulate health improvement activities within the state; (4) promotes the development of consistent key indicators, targets, measures, and milestones across the agency that focus on disease-specific outcomes; (5) provides jurisdiction situation scans and assessments to assure effectiveness and advance investments; (6) assesses and reports on investments in core public health infrastructure and capacities; (7) provides evidence of successful strategies, organizational structures, infrastructure capacity and system-wide improvements that impact program intervention and overall health outcomes; (8) develops periodic reports to governors, mayors, and other leaders of the legislative and executive branches of government; and (9) evaluates and validates standards, policies, leading practices and models across CDC and STLT agencies.

Division of Public Health Capacity Development (CQC). (1) Provides guidance and strategic direction on public health practice and works to advance the capacity, agility, and efficiency of STLT public health; (2) supports government relations, partnerships, and alliances with STLT health officials, and national and regional public health organizations; (3) provides STLT agencies with technical assistance and support in the assessment, review, and implementation of policies; (4) provides guidance and strategic direction for the recruitment, development, and management of field staff provided to local public health agencies; (5) develops and provides training for project officers and consultants, STLT health officers, field staff and leadership; and (6) develops and improves community programs through the dissemination and the adoption of leading practices and lessons learned.

Technical Assistance Branch (CQCB). (1) Provides leadership, tools, and techniques to enhance and foster the capability of the public health system; (2) facilitates STLT public health agency employees access to and interaction with CDC; (3) provides coordination and administration of infrastructure grants and high-level federal interagency agreements that have impact on STLT public health programs and activities; (4) maintains federal, tribal, state and territorial technical assistance teams; (5) provides written information and assists in the coordination of CDC and OSTLTS director site visits to STLTs; and (6) provides cross-agency guidance, polices and strategic direction for the recruitment, development, and management of field staff provided to local public health agencies.

Knowledge Management Branch (CQCC). (1) Develops and provides cross-agency training regarding the management of cooperative agreements and grants for project officers, program managers, and consultants; (2) facilitates the development and provision of training and development opportunities to STLT public health partners; (3) manages the Public Health Apprentice Program and provides direct oversight and supervision for the apprentices; (4) works collaboratively across OSTLTS, CDC and STLT agencies to disseminate and promote the adoption of leading practices, lessons learned and models that improve community programs; (5) provides leadership in identifying and implementing strategies for effective collaboration of CDC and STLT public health professionals; and (6) works with the Technical Assistance Branch to facilitate STLT public health agency employees' access to and interaction with CDC.

Partnership Support Branch (CQCD). (1) Oversees and maintains the partnership cooperative agreements; (2) identifies and supports critical cross-CDC relationships and coordination as it relates to the partnership cooperative agreements; (3) provides leadership in evaluating and improving the performance of partnership cooperative agreements; and (4) manages development of funding opportunity announcements and project officer coordination for partnership cooperative agreements.

Dated: August 8, 2010.
William P. Nichols,
Chief Operating Officer, Centers for Disease Control and Prevention.

[FR Doc. 2010-20217 Filed 8-17-10; 8:45 am]

BILLING CODE 4160-18-M